DEPARTMENT OF THE INTERIOR

Bureau of Land Management

[AZ-050-00-1230-PA; 8322]

California: Temporary Closure of Squaw Lake Campground to all Access, Imperial County, CA

AGENCY: Bureau of Land Management, Interior.

ACTION: Notice of Temporary Closure of Squaw Lake Campground to all public access: May 1, 2000, through July 31, 2000. Days and times of closures will be from each Sunday at 7 p.m. through each Friday at 10 a.m. Mountain Standard Time. The campground will remain open on Memorial Day, May 29, 2000, until 7 p.m. MST.

SUMMARY: Notice is hereby given that all public access is prohibited into the Squaw Lake Campground area each Sunday at 7 p.m. through each Friday at 10 a.m. MST. The closure area is located within:

San Bernardino Meridian, California

T.15 S., R.24 E.,

Sec. 5, portion of the E½, portion of the E½NW¼,

Aggregating 5 acres, more or less.

SUPPLEMENTARY INFORMATION: The temporary closure of Squaw Lake Campground to all public access is being implemented for the health and safety of the public. The U.S. Bureau of Reclamation will be conducting safety testing of the dam structures to determine foundation and seismic stability of the structures. During the testing, the water level elevation of Senator Wash Reservoir will be raised and lowered significantly. The dam will be monitored on a 24 hour basis utilizing various methods and equipment such as flood lights, generators, piezometers and an early alert warning siren for safety. The campground will be open to the public on Friday mornings at 10 a.m. All persons, boats, vehicles, and personal equipment must be vacated from the campground by 7 p.m. each Sunday. The only exception is Memorial Day which falls on a Monday May 29, 2000, when the campground will remain open for the extended weekend until 7 p.m. on Monday the 29th. The campground will remain closed to all public access during testing which will take place from Sunday at 7 p.m. until Friday at 10 a.m. This closure shall apply to all members of the public unless permitted by an authorized Bureau of Land Management Officer. Authority for this action is contained in 43 CFR 8364.1. Violation of this regulation is punishable by a fine not to exceed $100,000 and/or imprisonment not to exceed 12 months. Vehicles found in violation of this closure notice are subject to being towed at the owners expense.

EFFECTIVE DATES: May 1, 2000, through July 31, 2000.

FOR FURTHER INFORMATION CONTACT: Mark Lowans, Yuma Field Office, 2555 Gila Ridge Road, Yuma, Arizona 85365; (520) 317-3210.

Dated: March 17, 2000.
Gail Acheson,
Field Manager.

[FR Doc. 00-7518 Filed 3-27-00; 8:45 am]

BILLING CODE 4310-32-M